DEPARTMENT OF TRANSPORTATION

Maritime Administration

[Docket No. DOT-MARAD 2014-0140]

Request for Comments of a Previously Approved Information Collection: Request for Waiver of Service Obligation, Request for Deferment of Service Obligation, Application for Review

AGENCY: Maritime Administration (MARAD), Department of Transportation.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on July 14, 2014 (Federal Register 40836, Vol. 79, No. 134).

DATES: Comments must be submitted on or before December 15, 2014.

FOR FURTHER INFORMATION CONTACT: Anne Wehde, 202-366-5469, Office of Maritime Workforce Development, Maritime Administration, U.S. Department of Transportation, 1200 New Jersey Avenue SE., Washington, DC 20590.

SUPPLEMENTARY INFORMATION: Title: Request for Waiver of Service Obligation, Request for Deferment of Service Obligation, Application for Review.

OMB Control Number: 2133-0510.

Type of Request: Renewal of a Previously Approved Information Collection.

Abstract: This information collection is essential for determining if a student or graduate of the United States Merchant Marine Academy (USMMA) or subsidized student or graduate of a State maritime academy has a waive able situation preventing them from fulfilling the requirements of a service obligation contract signed at the time of their enrollment in a Federal maritime training program. It also permits the Maritime Administration (MARAD) to determine if a graduate, who wishes to defer the service obligation to attend graduate school, is eligible to receive a deferment. Their service obligation is required by law.

Affected Public: U.S. Merchant Marine Academy students and graduates, and subsidized students and graduates.

Estimated Number of Respondents: 11.

Estimated Number of Responses: 11.

Annual Estimated Total Annual Burden Hours: 3.30.

ADDRESSES: Send comments regarding the burden estimate, including suggestions for reducing the burden, to the Office of Management and Budget, Attention: Desk Officer for the Office of the Secretary of Transportation, 725 17th Street NW., Washington, DC 20503. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.93.

Dated: November 6, 2014.
Julie P. Agarwal,
Secretary, Maritime Administration.

[FR Doc. 2014-26846 Filed 11-12-14; 8:45 am]

BILLING CODE 4910-81-P